DEPARTMENT OF ENERGY

Federal Energy Regulatory Commission

Combined Notice of Filings

Take notice that the Commission has received the following Natural Gas Pipeline Rate and Refund Report filings:

Filings Instituting Proceedings

Docket Numbers: RP16-1097-004.

Applicants: KO Transmission Company.

Description: ALJ Settlement: Compliance Filing to Remove Certificated At-Risk Condition.

Filed Date: 8/13/18.

Accession Number: 20180813-5117.

Comments Due: 5 p.m. ET 12/13/18.

Docket Numbers: RP19-352-001.

Applicants: Sea Robin Pipeline Company, LLC.

Description: Compliance filing RP19-352-000 Sea Robin Tariff Records to be effective 1/1/2019.

Filed Date: 12/4/18.

Accession Number: 20181204-5113.

Comments Due: 5 p.m. ET 12/11/18.

Docket Numbers: RP19-382-000.

Applicants: Algonquin Gas Transmission, LLC.

Description: § 4(d) Rate Filing: Negotiated Rate—Yankee to Direct Energy 798318 to be effective 12/5/2018.

Filed Date: 12/4/18.

Accession Number: 20181204-5060.

Comments Due: 5 p.m. ET 12/17/18.

Docket Numbers: RP19-383-000.

Applicants: USG Pipeline Company, LLC.

Description: eTariff filing per 1430: Form 501-G.

Filed Date: 12/4/18.

Accession Number: 20181204-5142.

Comments Due: 5 p.m. ET 12/17/18.

Docket Numbers: RP19-384-000.

Applicants: High Island Offshore System, L.L.C.

Description: eTariff filing per 1430: 501-G Filing.

Filed Date: 12/6/18.

Accession Number: 20181206-5004.

Comments Due: 5 p.m. ET 12/18/18.

Docket Numbers: RP19-385-000.

Applicants: Paiute Pipeline Company.

Description: eTariff filing per 1430: Form No. 501-G Informational Filing.

Filed Date: 12/6/18.

Accession Number: 20181206-5010.

Comments Due: 5 p.m. ET 12/18/18.

Docket Numbers: RP19-386-000.

Applicants: Viking Gas Transmission Company.

Description: eTariff filing per 1430: Filing in Compliance with Order No. 849—Form No. 501-G.

Filed Date: 12/6/18.

Accession Number: 20181206-5011.

Comments Due: 5 p.m. ET 12/18/18.

Docket Numbers: RP19-387-000.

Applicants: Golden Pass Pipeline LLC.

Description: eTariff filing per 1430: Golden Pass Pipeline Form 501-G.

Filed Date: 12/6/18.

Accession Number: 20181206-5012.

Comments Due: 5 p.m. ET 12/18/18.

Docket Numbers: RP19-388-000.

Applicants: Algonquin Gas Transmission, LLC.

Description: § 4(d) Rate Filing: Negotiated Rate Yankee to Direct Energy 798321 eff. 12-06-18 to be effective 12/6/2018.

Filed Date: 12/6/18.

Accession Number: 20181206-5014.

Comments Due: 5 p.m. ET 12/18/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2018.
Nathaniel J. Davis, Sr.,
Deputy Secretary.

[FR Doc. 2018-26887 Filed 12-11-18; 8:45 am]

BILLING CODE 6717-01-P